SMALL BUSINESS ADMINISTRATION

[Disaster Declaration #18118 and #18119; FLORIDA Disaster Number FL-00192]

Presidential Declaration Amendment of a Major Disaster for the State of Florida

AGENCY: Small Business Administration.

ACTION: Amendment 4.

SUMMARY: This is an amendment of the Presidential declaration of a major disaster for the State of Florida (FEMA-4734-DR), dated 08/31/2023.

Incident: Hurricane Idalia.

Incident Period: 08/27/2023 through 09/04/2023.

DATES: Issued on 10/02/2023.

Physical Loan Application Deadline Date: 10/30/2023.

Economic Injury (EIDL) Loan Application Deadline Date: 05/31/2024.

ADDRESSES: Submit completed loan applications to: U.S. Small Business Administration, Processing and Disbursement Center, 14925 Kingsport Road, Fort Worth, TX 76155.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Florida, dated 08/31/2023, is hereby amended to include the following areas as adversely affected by the disaster:

Primary Counties (Physical Damage and Economic Injury Loans): Charlotte, Hillsborough.

Contiguous Counties (Economic Injury Loans Only):

Florida: Glades, Hendry, Highlands, Lee.

All other information in the original declaration remains unchanged.

(Catalog of Federal Domestic Assistance Number 59008)

Francisco Sánchez, Jr.,
Associate Administrator Office of Disaster Recovery & Resilience.

[FR Doc. 2023-22396 Filed 10-6-23; 8:45 am]

BILLING CODE 8026-09-P